DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Debt Collection Financial Statement.

OMB Number: 1660-0011.

Abstract: FEMA Form 22-13 is used to collect information from debtors to evaluate financial conditions and their ability to repay FEMA debts. This information will obtain current credit data about debtors who has a pending debt. Once this information is obtained, FEMA will determine whether a collection action can be developed using terms for installment repayment agreements, compromises or completely terminate a debtors collection action.

Affected Public: Individuals or Households.

Number of Respondents: 300.

Estimated Time per Respondent: 45 minutes.

Estimated Total Annual Burden Hours: 225.

Frequency of Response: On Occasion.

Comments: Interested persons are invited to submit written comments on the proposed information collection to the Office of Information and Regulatory Affairs at OMB, Attention: Desk Officer for the Department of Homeland Security/FEMA, Docket Library, Room 10102, 725 17th Street, NW., Washington, DC 20503 or facsimile number (202) 395-7285. Comments must be submitted on or before April 21, 2005. In addition, interested persons may also send comments to FEMA (see contact information below).

FOR FURTHER INFORMATION CONTACT: Requests for additional information or copies of the information collection should be made to Muriel B. Anderson, Chief, Records Management Section, FEMA at 500 C Street, SW., Room 316, Washington, DC 20472, facsimile number (202) 646-3347, or e-mail address FEMA-Information-Collections@dhs.gov.

Dated: March 10, 2005.
George S. Trotter,
Acting Branch Chief, Information Resources Management Branch, Information Technology Services Division.

[FR Doc. 05-5566 Filed 3-21-05; 8:45 am]

BILLING CODE 9110-49-P